DEPARTMENT OF TRANSPORTATION

Office of the Secretary

Privacy Act of 1974: System of Records

AGENCY: Federal Aviation Administration (FAA), Department of Transportation (DOT).

ACTION: Notice to modify a system of records.

SUMMARY: DOT proposes to modify a system of records under the Privacy Act of 1974. The system is FAA's Aviation Records on Individuals, which is being modified to reflect: (1) One new routine use and (2) clarity to the purpose of the system. This system would not duplicate any other DOT system of records.

DATES: Effective Date: December 20, 2010. If no comments are received, the proposal will become effective on the above date. If comments are received, the comments will be considered and, where adopted, the documents will be republished with changes.

ADDRESSES: Address all comments concerning this notice to Carla Scott, Department of Transportation, Federal Aviation Administration, (AES-300), 800 Independence Avenue, SW., Washington, DC 20591, (202) 267-9895.

FOR FURTHER INFORMATION CONTACT: Habib Azarsina, Departmental Privacy Officer, Department of Transportation, Office of the Secretary, 1200 New Jersey Avenue, SE., Washington, DC 20003, 202-366-1965 (telephone), habib.azarsina@dot.gov, (Internet address).

SUPPLEMENTARY INFORMATION: The Department of Transportation system of records notice subject to the Privacy Act of 1974 (5 U.S.C. 552a), as amended, has been published in the Federal Register and is available from the above mentioned address.

DOT/FAA 847

SYSTEM NAME:

Aviation Records on Individuals

SECURITY CLASSIFICATION:

Sensitive, unclassified

SYSTEM LOCATION:

• Federal Aviation Administration (FAA), Mike Monroney Aeronautical Center (MMAC), Oklahoma City, Oklahoma 73125: Civil Aerospace Medical Institute, Aerospace Medical Certification Division, AAM-300; Regulatory Support Division, AFS-600; and Civil Aviation Registry, Airmen Certification Branch AFS-760.

• Federal Aviation Administration, 800 Independence Avenue, SW., Washington, DC 20591: Drug Abatement Division, AAM-800 or the local Compliance and Enforcement Centers of the Drug Abatement Division; Office of Security and Hazardous Materials; Flight Standards District Offices (FSDO's); Certificate Management Offices (CMO's); Certificate Management Field Offices (CMFO's); International Field Offices; Office of Security and Hazardous Materials Regional and Field Offices; FAA Regional Offices; and Chief Counsel, Regional Counsel, and Aeronautical Center Counsel Offices.

CATEGORIES OF INDIVIDUALS COVERED BY THE SYSTEM OF RECORDS:

This system contains information on:

(1) Current certificated airmen, airmen whose certificates have expired, airmen who are deceased, airmen rejected for medical certification, airmen with special certifications, and others requiring medical certification;

(2) Air traffic controllers in air route traffic control centers, terminals, and flight service stations, and applicants for these positions;

(3) Holders of and applicants for airmen certificates, airmen seeking additional certifications or additional ratings, individuals denied certification, airmen holding inactive certificates, and airmen who have had certificates amended, modified, suspended or revoked.

(4) Persons involved in aircraft accidents and incidents, including crewmembers, passengers, persons on the ground, and witnesses.

(5) Individuals performing safety-sensitive functions under FAA's drug and alcohol testing regulations who have (a) tested positive on a Department Of Transportation (DOT)-required drug test; (b) tested 0.04 or greater for breath alcohol concentration on a DOT-required alcohol test; or (c) refused to submit to testing under a DOT-required testing program.

(6) Individuals in their commercial capacities who work for companies conducting drug and alcohol testing.

(7) Individuals who witness violations of FAA regulations.

(8) Individuals against whom FAA has initiated informal action, administrative action or legal enforcement action for violating safety regulations and statutes or orders issued thereunder (see generally 49 U.S.C. 40101 et seq., 44101 et seq., 45101 et seq., 46101 et seq.; FAA regulations, 14 CFR Parts 1-199; hazardous materials regulations, 49 CFR Parts 171-180; and drug and alcohol testing regulations, 49 CFR Part 40).

CATEGORIES OF RECORDS IN THE SYSTEM:

• Name, date of birth, place of residence, mailing address, social security number, and airman certificate number.

• Records that are required to determine the physical or mental condition of an individual with respect to medical standards established by FAA.

• Records concerning drug or alcohol testing, test results, or refusals to submit to testing under a DOT-required testing program.

• Records concerning applications for certification, applications for knowledge examinations, results of knowledge tests, applications for inspection authority, certificates held, ratings, stop orders, and requests for replacement certificates.

• Reports of fatal accidents, autopsies, toxicological studies, aviation medical examiner reports, medical record printouts, nonfatal reports, injury reports, accident name cards, magnetic tape records of fatal accidents, physiological autopsy, and consulting pathologist's summary of findings.

• Records of accident investigations, preliminary notices of accident injury reports, engineering analyses, witness statements, investigators' analyses, and pictures of accident scenes.

• Records concerning safety compliance notices, informal actions, warning notices, oral or written counseling, letters of correction, letters of investigation, notices of proposed legal enforcement action, final action legal documents in enforcement actions, and correspondence of Regional Counsels, the Aeronautical Center Counsel, Chief Counsels, and others in enforcement cases.

• All records on individuals within FAA databases for which the Safety Performance Analysis System (SPAS) is a software interface (i.e., inspection, surveillance, and investigation records concerning individuals, in systems including but not limited to: Accident/Incident Database System (AIDS), Air Transportation Oversight System (ATOS), Enforcement Information System (EIS), National Program Tracking and Reporting System (PTRS), National Vital Information System (VIS), and the Drug Abatement Division's Compliance and Enforcement Tracking System (CETS)).

• SPAS-related enforcement records maintained in Chief Counsel, Regional Counsel, and Aeronautical Center Counsel offices.

AUTHORITY FOR MAINTENANCE OF THE SYSTEM:

49 U.S.C. 40101, 40113, 44701-44703, 44709, 45101-106, 46301.

PURPOSE(S):

This system is the official repository of aviation records on individuals that are required to be maintained in connection with FAA's oversight and enforcement of compliance with safety regulations and statutes and orders issued thereunder or that are required to be made available, upon request, to other agencies, certain members of the public (e.g., Aviation Medical Examiners), or the public at large.

ROUTINE USES OF RECORDS MAINTAINED IN THE SYSTEM, INCLUDING CATEGORIES OF USERS AND THE PURPOSES OF SUCH USES:

(a) Provide basic airmen certification and qualification information to the public upon request; examples of basic information include:

• The type of certificates and ratings held;

• The date, class, and restrictions of the latest physical airman's certificate number;

• The status of the airman's certificate (i.e., whether it is current or has been amended, modified, suspended or revoked for any reason);

• The airman's home address, unless requested by the airman to be withheld from public disclosure per 49 U.S.C. 44703(c);

• Information relating to an individual's physical status or condition used to determine statistically the validity of FAA medical standards; and

• Information relating to an individual's eligibility for medical certification, requests for exemption from medical requirements, and requests for review of certificate denials.

(b) Use contact information to inform airmen of meetings and seminars conducted by the FAA regarding aviation safety.

(c) Disclose information to the National Transportation Safety Board (NTSB) in connection with its investigation responsibilities.

(d) Provide information about airmen to Federal, State, local and Tribal law enforcement agencies when engaged in an official investigation in which an airman is involved.

(e) Provide information about enforcement actions or orders issued thereunder to government agencies, the aviation industry, and the public upon request.

(f) Make records of delinquent civil penalties owed to the FAA available to the U.S. Department of the Treasury (Treasury) and the U.S. Department of Justice (DOJ) for collection pursuant to 31 U.S.C. 3711(g).

(g) Make records of effective orders against the certificates of airmen available to their employers if the airmen use the affected certificates to perform job responsibilities for those employers.

(h) Make airmen records available to users of FAA's Safety Performance Analysis System (SPAS), including the Department of Defense Commercial Airlift Division's Air Carrier Analysis Support System (ACAS) for its use in identifying safety hazards and risk areas, targeting inspection efforts for certificate holders of greatest risk, and monitoring the effectiveness of targeted oversight actions.

(i) Make records of an individual's positive drug test result, alcohol test result of 0.04 or greater breath alcohol concentration, or refusal to submit to testing required under a DOT-required testing program, available to third parties, including employers and prospective employers of such individuals. Such records will also contain the names and titles of individuals who, in their commercial capacity, administer the drug and alcohol testing programs of aviation entities.

(j) Provide information about airmen through the airmen registry certification system to the Department of Health and Human Services, Office of Child Support Enforcement, and the Federal Parent Locator Service that locates non-custodial parents who owe child support. Records in this system are used to identify airmen to the child support agencies nationwide in enforcing child support obligations, establishing paternities, establishing and modifying support orders and location of obligors. Records named within the section on Categories of Records will be retrieved using Connect: Direct through the Social Security Administration's secure environment.

(k) Make personally identifiable information about airmen available to other Federal agencies for the purpose of verifying the accuracy and completeness of medical information provided to FAA in connection with applications for airmen medical certification.

(l) Make records of past airman medical certification history data available to Aviation Medical Examiners (AMEs) on a routine basis so that AMEs may render the best medical certification decision.

(m) Make airman, aircraft and operator record elements available to users of FAA's Skywatch system, including the Department of Defense (DoD), the Department of Homeland Security (DHS), the Department of Justice (DOJ) and other authorized government users, for their use in managing, tracking and reporting aviation-related security events.

(n) Provide information about airmen to Federal, State, local, and Tribal law enforcement, national security or homeland security agencies whenever such agencies are engaged in the performance of threat assessments affecting the safety of transportation or national security.

(0) See Prefatory Statement of General Routine Uses.

POLICIES AND PRACTICES FOR STORING, RETRIEVING, ACCESSING, RETAINING, AND DISPOSING OF RECORDS IN THE SYSTEM:

STORAGE:

Records are maintained in file folders, on lists and forms, and in computer processing storage media. Records are also stored on microfiche, on roll microfilm, and as electronic images.

RETRIEVABILITY:

Records may be retrieved by name, birth date, sex, Social Security number, airman certificate number, or other identification number of the individual on whom the records are maintained; or by medical identification number, accident number and/or incident number, and enforcement investigative report number or docket number.

SAFEGUARDS:

Manual records: Strict information handling procedures have been developed to cover the use, transmission, storage, and destination of personal data in hard copy form. The procedures are periodically reviewed for compliance with applicable laws. Automated Processing Records in FAA-Administered Systems: Computer processing of personal information is conducted within established FAA computer security regulations. A risk assessment of the FAA facility is performed prior to the implementation of the system of records. Automated Processing Records in Commercial Computer Contractor-Administered Systems: Computer programs are operated on commercial security levels and record element restrictions to prevent release of data to unauthorized parties.

RETENTION AND DISPOSAL:

Records are either destroyed or retired to the local Federal Records Center and then destroyed in accordance with the current version of FAA Order 1350.15C, Records Organization, Transfer and Destruction Standards. The retention and destruction period for each record varies depending on the type of record, but ranges between 30 days and 10 years.

SYSTEM MANAGER(S) AND ADDRESS:

Federal Aviation Administration, Mike Monroney Aeronautical Center, P.O. Box 25082, 6500 South MacArthur Blvd., Oklahoma City, Oklahoma 73125—

• Records concerning aviation medical certification: Manager: Aerospace Medical Certification Division, AAM-300;

• FAA certification records and general airman records: Manager, Airmen Certification Branch, AFS-760;

• Records concerning aircraft accidents and incidents, inspections, surveillance, and investigations: Manager, Aviation Data Systems Branch, AFS-620;

• Records in FAA-Administered databases concerning administrative actions and legal enforcement actions: Manager, Aviation Data Systems Branch, AFS-620;

• Records pertaining to legal enforcement actions maintained in Chief Counsel, Regional Counsel, and Aeronautical Center Counsel offices: The address of the appropriate FAA regional or field office maintaining the official agency enforcement file may be obtained from AFS-620.

• Records pertaining to administrative actions and informal actions: The investigating FAA field office or regional office or the Drug Abatement Division, AAM-800, or the local Compliance and Enforcement Centers of the Drug Abatement Division, as appropriate. The address of the appropriate FAA regional or field office maintaining the official agency enforcement file may be obtained from AFS-620.

• Electronic enforcement litigation tracking system records: Chief Counsel, Regional Counsel, and Aeronautical Center Counsel offices.

• Accounting files: Office of Financial Operations (AMZ) at the Aeronautical Center, and Office of Financial Management (AFM) at headquarters.

• Aviation medical certification records from headquarters and regional files: Medical Specialties Division at headquarters, AAM-200, or the Regional Flight Surgeon within the region where examination was conducted (visit or call the local FAA office for proper Regional Office address).

• Drug and alcohol testing records, and records of refusals to submit to testing required under a DOT-required testing program: Drug Abatement Division, AAM-800, or the local Compliance and Enforcement Centers of the Drug Abatement Division, as appropriate.

• Records pertaining to security and hazardous materials: Office of Hazardous Materials, ADG-1

NOTIFICATION PROCEDURE:

Individuals wishing to know if their records appear in this system of records may make a request in person or in writing to the appropriate system manager. The request must include:

• Name;

• Mailing address;

• Telephone number and/or e-mail address;

• A description and, if possible, the location of the records requested; and

• A statement under penalty of perjury that the requester is the individual who he or she claims to be.

RECORDS ACCESS PROCEDURE:

Individuals who desire access to information in this system of records should make a written request to, or an appointment with, the appropriate system manager. Each request should describe the particular record to the fullest extent possible, including the subject matter of the record, and, if known, the date when it was made, where it was made, and the originating person or office. Each request must also include a statement under penalty of perjury that the requester is the individual who he or she claims to be.

PROCEDURES FOR CONTESTING RECORDS:

Individuals who desire to contest information about themselves contained in the system of records should make their request in writing, detailing the reasons why the records should be corrected, and submit the request to the attention of the FAA official responsible for the record at the address appearing in this notice. The request must include a statement under penalty of perjury that the requester is the individual who he or she claims to be.

RECORDS SOURCE CATEGORIES:

a. Medical Records are obtained from Aviation Medical Examiners (AME's), the individual to whom the records pertain, consultants, hospitals, treating or examining physicians, and Federal/State/local/Tribal Government agencies.

b. Airmen Certification Records are obtained from the individual to whom the records pertain, FAA aviation safety inspectors, and FAA designated representatives.

c. General Aviation Accident/Incident Records and Air Carrier Incident Records are obtained from Aviation Medical Examiners, pathologists, accident investigation records, medical laboratories, Federal/State/local/Tribal law enforcement officials, and FAA employees. Data are also collected from manufacturers of aircraft and involved passengers.

d. Informal Action, Administrative Action and Legal Enforcement Records are obtained from witnesses, the Offices of the Chief Counsel, Regional Counsels and Aeronautical Center Counsel, the National Transportation Safety Board, Office of Security and Hazardous Materials (ASH) personnel, Flight Standards personnel, Office of Aviation Safety (AVS) personnel and Aeronautical Center personnel.

e. Drug and alcohol testing records and records relating to test results and refusals to submit to testing are obtained from the individual to whom the records pertain, current or previous employers, witnesses, FAA Drug Abatement inspectors, service agents providing drug and alcohol testing services for employers, and other Federal/State/local/Tribal Government agencies.

EXEMPTIONS CLAIMED FOR THIS SYSTEM:

Records in this system that relate to administrative actions and legal enforcement actions are exempted from certain access and disclosure requirements of the Privacy Act of 1974, pursuant to 5 U.S.C. 552a(k)(2).

Dated: November 3, 2010.
Habib Azarsina,
Departmental Privacy Officer.

[FR Doc. 2010-28237 Filed 11-8-10; 8:45 am]

BILLING CODE 4910-9X-P